DEPARTMENT OF HOMELAND SECURITY

Office of the Secretary

[Docket No. DHS-2005-0044]

Homeland Security Advisory Council

AGENCY: Office of the Secretary, Department of Homeland Security.

ACTION: Notice of Federal advisory committee meeting.

SUMMARY: The Homeland Security Advisory Council will hold a meeting to receive reports and briefings and to hold member deliberations. This meeting will be partially closed to the public as authorized under the Federal Advisory Committee Act.

DATES: Meeting date: Tuesday, January 10, 2006.

Comments date: If you desire to submit comments, they must be submitted by January 3, 2006.

ADDRESSES: The open portions of the meeting for the purpose of receiving Task Force reports and updates will be held at the Mandarin Oriental Hotel, 1330 Maryland Avenue Southwest, Washington, DC in Grand Ballroom A from 10 a.m. to 12 p.m. The closed portions of the meeting for the purpose of receiving detailed critical infrastructure briefings will be held in a separate venue closed to the public at the Mandarin Oriental Hotel, 1330 Maryland Avenue Southwest, Washington, DC from 8 a.m. to 9:50 a.m. and from 12:10 p.m. to 3 p.m.

You may submit comments, identified by DHS-2005-0044, by one of the following methods:

• Federal eRulemaking portal: http://www.regulations.gov.

• E-mail: HSAC@dhs.gov. Include docket number in the subject line of the message.

• Fax: (202) 772-9718.

• Mail: Mike Miron, Homeland Security Advisory Council, Department of Homeland Security, Washington, DC 20528.

Instructions: All submissions received must include the Department of Homeland Security and DHS-2005-0044, the docket number for this action. Comments received will be posted without alteration at http://www.regulations.gov, including any personal information provided.

Docket: For access to the docket to read background documents or comments received by the DHS Data Privacy and Integrity Committee, go to http://www.regulations.gov.

FOR FURTHER INFORMATION CONTACT: Mike Miron, Homeland Security Advisory Council, Washington, DC 20528, (202) 692-4283, HSAC@dhs.gov.

SUPPLEMENTARY INFORMATION: At the upcoming meeting, the Homeland Security Advisory Council (HSAC) will receive reports from the Critical Infrastructure Task Force and the Prevention of the Entry of Weapons of Mass Effect on American Soil Task Force. It also will receive updates from the Private Sector Information Sharing and Fusion Center Task Forces. Additionally, the HSAC will receive detailed briefings covering specific critical infrastructure vulnerabilities, interdependencies, infrastructure resilience, and vulnerability mitigation. The HSAC will also hold roundtable deliberations and discussions among HSAC members, including discussions regarding administrative matters.

Public Attendance: A limited number of members of the public may register to attend the public session on a first-come, first-served basis. Security requires that any member of the public who wishes to attend the public session provide his or her name and date of birth, no later than 5 p.m. e.s.t., Tuesday, January 03, 2006, to Mike Miron or an Executive Staff Member of the HSAC via e-mail at HSAC@dhs.gov or via phone at (202) 692-4283. Persons with disabilities who require special assistance should so indicate in their admittance request and are encouraged to indicate their desires to attend and anticipated special needs as early as possible. Photo identification will be required for entry into the public session, and everyone in attendance must be present and seated by 9:45 a.m.

Basis for Closure: In accordance with Section 10(d) of the Federal Advisory Committee Act (FACA), Public Law 92-463, as amended (5 U.S.C. App. 1 et seq.), I have determined that portions of this HSAC meeting (referenced above as “closed”) will concern matters excluded from Open Meetings requirements. At portions of the meeting where the committee will be addressing specific critical infrastructure vulnerabilities, interdependencies, infrastructure resilience and vulnerability mitigation, discussions may include: trade secrets and commercial or financial information that is privileged or confidential; investigative techniques and procedures; and matters that for which disclosure would likely frustrate significantly the implementation of proposed agency actions. Accordingly, I have determined that these portions of the meeting must be kept closed as well, consistent with the provisions of 5 U.S.C. 552b(c)(4), (7)(E), and (9)(B).

Dated: December 12, 2005.
Michael Chertoff,
Secretary.

[FR Doc. 05-24190 Filed 12-16-05; 8:45 am]

BILLING CODE 4410-10-P